DEPARTMENT OF STATE

[Public Notice 9927]

Advisory Committee on Historical Diplomatic Documentation—Notice of Closed and Open Meeting for 2017

SUMMARY: The Advisory Committee on Historical Diplomatic Documentation will meet on May 15, 2017, in open session to discuss unclassified matters concerning declassification and transfer of Department of State records to the National Archives and Records Administration and the status of the Foreign Relations series.

The Committee will meet in open session from 9:30 a.m. until 10:30 a.m. in SA-4D Conference Room, Department of State, 2300 E Street NW., Washington DC, 20372 (Potomac Navy Hill Annex). RSVP should be sent not later than May 8, 2017. Requests for reasonable accommodation should be made by May 1, 2017. Requests made after that date will be considered, but might not be possible to fulfill.

Closed Session. The Committee's session in the afternoon of Monday, May 15, 2017 will be closed in accordance with Section 10(d) of the Federal Advisory Committee Act (Public Law 92-463). The agenda calls for review of classified documentation concerning the Foreign Relations series and other declassification issues. These are matters properly classified and not subject to public disclosure under 5 U.S.C. 552b(c)(1) and the public interest requires that such activities be withheld from disclosure.

RSVP Instructions. Prior notification and a valid government-issued photo ID (such as driver's license, passport, U.S. Government or military ID) are required for entrance into the Department of State building. Members of the public planning to attend the open meetings should RSVP, by the dates indicated above, to Julie Fort, Office of the Historian (202-955-0214). When responding, please provide date of birth, valid government-issued photo identification number and type (such as driver's license number/state, passport number/country, or U.S. Government ID number/agency or military ID number/branch), and relevant telephone numbers. If you cannot provide one of the specified forms of ID, please consult with Julie Fort for acceptable alternative forms of picture identification.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at https://foia.state.gov/_docs/SORN/State-36.pdf, for additional information.

Questions concerning the meeting should be directed to Dr. Stephen P. Randolph, Executive Secretary, Advisory Committee on Historical Diplomatic Documentation, Department of State, Office of the Historian, Washington, DC 20372, telephone (202) 955-0214, (email history@state.gov).

Note that requests for reasonable accommodation received after the date indicated in this notice will be considered, but might not be possible to fulfill.

Stephen P. Randolph,
Executive Secretary, Advisory Committee on Historical, Diplomatic Documentation.

[FR Doc. 2017-05906 Filed 3-24-17; 8:45 am]

BILLING CODE 4710-11-P